DEPARTMENT OF VETERANS AFFAIRS

[OMB Control No. 2900-New-Bio-terrorism]

Agency Information Collection: Emergency Submission for OMB Review; Comment Request

AGENCY: Veterans Health Administration, Department of Veterans Affairs.

ACTION: Notice.

SUMMARY: In compliance with the Paperwork Reduction Act (PRA) of 1995 (44 U.S.C., 3501-3521), this notice announces that the United States Department of Veterans Affairs (VA), has submitted to the Office of Management and Budget (OMB) the following emergency proposal for the collection of information under the provisions of the Paperwork Reduction Act (44 U.S.C. 3507(j)(1)). An emergency clearance is being requested in response to Public Law 107-188, “Public Health Security and Bio-terrorism Preparedness and Response Act of 2002.” The act calls: “To improve the ability of the United States to prevent, prepare for and respond to bio-terrorism and other public health emergencies.” VA would like to conduct a pilot test to measure the effectiveness of disseminating bio-terrorism educational material to veterans.

DATES: Comments must be submitted on or before July 23, 2004.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-New-Bio-terrorism.”

Send comments and recommendations concerning any aspect of the information collection to VA's OMB Desk Officer, OMB Human Resources and Housing Branch, New Executive Office Building, Room 10235, Washington, DC 20503, (202) 395-7316 or FAX (202) 395-6974. Please refer to “2900-New-Bio-terrorism.”

SUPPLEMENTARY INFORMATION: Title: Veterans Survey on Bio-terrorism.

OMB Control Number: 2900-New-Bio-terrorism.

Type of Review: New collection.

Abstract: The Department of Veterans Affairs in response to Public Law 107-188, “Public Health Security and Bio-terrorism Preparedness and Response Act of 2002” will conduct a survey to evaluate how veterans obtain information about bio-terrorism in the past, or if they wish to obtain information in the future; their knowledge about the three different types of potential biological agents; their attitudes and perceptions related to experiencing, surviving a bio-terrorism in the future as well as their confidence in the role VA will play in the event of a bio-terrorism act, behavioral disposition and anxiety/anger over a future event and with respect to any educational material received on bio-terrorism. The survey will be used to determine the number of veterans who receive benefits but do not use the health care facilities and would they use VA facilities as their primary source of health care in the event a future bio-terrorism incident.

Affected Public: Individuals or households.

Estimated Total Annual Burden: 1,873 hours.

Estimated Average Burden Per Respondent: 27 minutes.

Frequency of Response: Twice.

Estimated Number of Respondents: 4,210.

Dated: July 6, 2004.
By direction of the Secretary.
Loise Russell,
Director, Records Management Service.

[FR Doc. 04-16176 Filed 7-15-04; 8:45 am]

BILLING CODE 8320-01-P